DEPARTMENT OF LABOR

Employment and Training Administration

[TA-W-59,154]

TRW Automotive, Sterling Plant, Sterling Heights, MI; Notice of Termination of Investigation

Pursuant to section 221 of the Trade Act of 1974, as amended, an investigation was initiated on April 5, 2006 in response to a worker petition filed by a company official on behalf of workers at TRW Automotive, Sterling Plant, Sterling Heights, Michigan.

The petitioner has requested that the petition be withdrawn. Consequently, the investigation has been terminated.

Signed at Washington, DC this 12th day of April, 2006.
Elliott S. Kushner,
Certifying Officer, Division of Trade Adjustment Assistance.

[FR Doc. E6-6099 Filed 4-21-06; 8:45 am]

BILLING CODE 4510-30-P